DEPARTMENT OF HOUSING AND URBAN DEVELOPMENT

[Docket No. FR-4736-N-01]

Announcement of OMB Approval Number for the Admission to, and Occupancy of Public Housing: Admission and Tenant Selection Policies, Verification, Notification, Preference, Waiting Lists, Exemption of Police Officers

AGENCY: Office of the Assistant Secretary for Public and Indian Housing, HUD.

ACTION: Announcement of OMB approval number.

SUMMARY: The purpose of this notice is to announce the OMB approval number for the collection of information pertaining to the requirements for admission and tenant selection policies, verification, notification, preference, waiting lists, and exemption of police officers for occupancy in public housing developments.

FOR FURTHER INFORMATION CONTACT: Patricia Arnaudo, Department of Housing and Urban Development, 451 7th Street, Southwest, Washington, DC 20410, telephone (202) 708-0614, extension 4250. This is not a toll-free number.

SUPPLEMENTARY INFORMATION: In accordance with the Paperwork Reduction Act of 1995 (44 U.S.C. Chapter 35, as amended), this notice advises that OMB has responded to the Department's request for approval of the information collection pertaining to the admission and occupancy of public housing, tenant selection, verification, notification, preference, waiting lists, and exemption of police officers. The OMB approval number for this information collection is 2577-0220, which expires November 30, 2004.

An agency may not conduct or sponsor, and a person is not required to respond to, a collection of information, unless it displays a currently valid OMB control number.

Dated: January 18, 2002.
Michael Liu,
Assistant Secretary for Public and Indian Housing.

[FR Doc. 02-1937 Filed 1-25-02; 8:45 am]

BILLING CODE 4210-33-M